DEPARTMENT OF LABOR

Employment and Training Administration

[TA-W-39,644]

A-1 Manufacturing Inc.; Garment Corporation of America; Brilliant, AL; Notice of Termination of Investigation

Pursuant to section 221 of the Trade Act of 1974, an investigation was initiated on July 16, 2001 in response to a worker petition which was filed on behalf of workers at A-1 Manufacturing, Inc., Brilliant, Alabama.

An active certification covering the petitioning group of workers is already in effect (TA-W-39,204, as amended). Consequently, further investigation in this case would serve no purpose, and the investigation has been terminated.

Dated: Signed in Washington, DC this 13th day of August, 2001.
Linda G. Poole,
Certifying Officer, Division of Trade Adjustment Assistance.

[FR Doc. 01-31138 Filed 12-17-01; 8:45 am]

BILLING CODE 4510-30-M